Title 3—

The President

Proclamation 7824 of October 4, 2004

Fire Prevention Week, 2004

By the President of the United States of America

A Proclamation

Fire Prevention Week is an opportunity for all Americans to learn more about how to avoid fires, as well as how to best respond in case of such an emergency. By making fire safety a priority, we can help limit the devastating effects of fires and enhance the safety of our citizens.

A large majority of fire deaths in the United States occur in the home. This year's theme, “It's Fire Prevention Week: Test Your Smoke Alarms,” reflects the importance of installing and maintaining working smoke alarms on every floor of the home. As vital early warning systems, smoke alarms reduce the chances of a fire becoming fatal by approximately 50 percent. Americans can also take steps to reduce the chance of a fire ever starting. These include using electrical devices safely, avoiding overloading circuits, and carefully operating stoves, fireplaces, and space heaters. We should also supervise our children and educate them about the dangers of lighters and matches, exercise care in the storing of firewood and other flammable materials, and obey local burning laws. More information about these and other measures is available from the National Fire Protection Association and the Department of Homeland Security's United States Fire Administration.

Firefighters are among our greatest heroes, and they risk their lives each day to protect our citizens and our homeland. All Americans owe them a debt of gratitude for their courage and dedication. By working to prevent disasters and by being prepared, we support firefighters as they serve communities across our Nation.

NOW, THEREFORE, I, GEORGE W. BUSH, President of the United States of America, by virtue of the authority vested in me by the Constitution and laws of the United States, do hereby proclaim October 3 through October 9, 2004, as Fire Prevention Week. I call upon the people of the United States to observe this week with appropriate activities and to undertake efforts to prevent fires and their tragic consequences.

IN WITNESS WHEREOF, I have hereunto set my hand this fourth day of October, in the year of our Lord two thousand four, and of the Independence of the United States of America the two hundred and twenty-ninth.

B

[FR Doc. 04-22757

Filed 10-6-04; 8:45 am]

Billing code 3195-01-P